DEPARTMENT OF TRANSPORTATION

Federal Highway Administration

Environmental Impact Statement: Salt Lake County, UT

AGENCY: Federal Highway Administration (FHWA), DOT.

ACTION: Notice of intent.

SUMMARY: The FHWA is issuing this notice to advise the public that an Environmental Impact Statement (EIS) will be prepared for a proposed transportation improvement project in Salt Lake County, Utah.

FOR FURTHER INFORMATION CONTACT: Bryan Dillon, Area Engineer, Federal Highway Administration, 2520 West 4700 South, Suite 9A, Salt Lake City, UT 84118, Telephone: (801) 963-0182, E-mail: Bryan.Dillon@DOT.gov. The Utah Department of Transportation (UDOT) contact is Chuck Easton, Region 2 Environmental Lead, 2010 South 2760 West, Telephone: (801) 975-4923, e-mail: ceaston@utah.gov.

SUPPLEMENTARY INFORMATION: The FHWA, in cooperation with UDOT, intends to prepare an EIS on a proposal to analyze and address the regional transportation connectivity needs on the west side of the Salt Lake Valley in the area bounded by 6200 South, 4700 South, Bangerter Highway and Redwood Road.

To provide for local and regional travel demands, the regional transportation plan developed by the local Metropolitan Planning Organization, Wasatch Front Regional Council (WFRC), has identified the need for an improved transportation system in the study area. Alternatives under consideration include (1) taking no action (no-build); (2) transportation system management/travel demand management; and (3) build alternatives to be considered include, but are not limited to: (1) A collector roadway system; (2) addition of a grade-separated interchange at 5400 South and I-215 and/or improvements to adjacent grade-separated interchanges; (3) arterial roadway capacity and operational improvements; (4) transit; (5) combinations of any of the above; and (6) other feasible alternatives identified during the scoping process.

The public, as well as Federal, State, and local agencies, will be invited to participate in project scoping to ensure that a full range of alternatives is considered and that all appropriate environmental issues and resources are evaluated. The scoping process will include opportunities to provide comments on the purpose and need for the project, potential alternatives, and social, economic, and environmental issues of concern. Letters describing the proposed action and soliciting comments will be sent to appropriate Federal, State, and local agencies, and to private organizations and citizens who have previously expressed or are known to have interest in this proposal.

The public will be invited to participate in scoping meeting which will be held in an open house format at locations and dates to be determined. In addition, a public hearing will be held following the release of the draft EIS. The draft EIS will be available for public and agency review and comment before the public hearing. Public notice advertisements, direct mailings, and other means of notification will be used to notify interested parties of the time and place of the public meetings and the public hearing.

To ensure that a full range of issues related to the proposed action are addressed and all significant issues identified, comments and suggestions are invited from all interested parties. Comments or questions concerning the proposed action and the EIS should be directed to the FHWA at the address provided above by April 1, 2010.

(Catalog of Federal and Domestic Assistance Program Number 20.205, Highway Research, Planning and Construction. The regulations implementing Executive Order 12372 regarding intergovernmental consultation on federal programs and activities apply to this program.)

Issued on: 24 February 2010.
Bryan Dillon,
Federal Highway Administration, Salt Lake City, Utah.

[FR Doc. 2010-4267 Filed 3-1-10; 8:45 am]

BILLING CODE 4910-22-P